DEPARTMENT OF TRANSPORTATION

National Highway Traffic Safety Administration

[Docket No. NHTSA-2015-0041; Notice 2]

Tireco, Inc., Grant of Petition for Decision of Inconsequential Noncompliance

AGENCY: National Highway Traffic Safety Administration (NHTSA), Department of Transportation (DOT).

ACTION: Grant of petition.

SUMMARY: Tireco, Inc., (Tireco) has determined that certain Tireco Traction tires do not fully comply with paragraph S6.5(b) of Federal Motor Vehicle Safety Standard (FMVSS) No. 119, New Pneumatic Tires for Motor Vehicles with a GVWR of More than 4,536 Kilograms (10,000 pounds) and Motorcycles. Tireco has filed an appropriate report dated March 30, 2015, pursuant to 49 CFR part 573, Defect and Noncompliance Responsibility and Reports.

ADDRESSES: For further information on this decision contact Abraham Diaz, Office of Vehicle Safety Compliance, the National Highway Traffic Safety Administration (NHTSA), telephone (202) 366-5310, facsimile (202) 366-5930.

SUPPLEMENTARY INFORMATION:

I. Overview: Pursuant to 49 U.S.C. 30118(d) and 30120(h) (see implementing rule at 49 CFR part 556), Tireco submitted a petition for an exemption from the notification and remedy requirements of 49 U.S.C. Chapter 301 on the basis that this noncompliance is inconsequential to motor vehicle safety.

Notice of receipt of the petition was published with a 30-day public comment period, on June 11, 2015 in the Federal Register (80 FR 33333). No comments were received. To view the petition and all supporting documents log onto the Federal Docket Management System (FDMS) Web site at: http://www.regulations.gov/. Then follow the online search instructions to locate docket number “NHTSA-2015-0041.”

II. Tires Involved: Affected are approximately 1,600 Tireco Power King Traction size 8.25-20E/10, Power King Traction size 9.00-20 E/10, Milestar Traction size 8.25-20 E/10, and Milestar Traction size 9.00-20 E/10 tires. These tires were manufactured between March 1, 2014 and March 22, 2015.

III. Noncompliance: Tireco explains that the noncompliance is that the Tire Information Numbers (TINs) required to be marked on the tire sidewalls by paragraph S6.5(b) of FMVSS No. 119 are incomplete because they do not include the tire size codes required by 49 CFR part 574.5(b).

IV. Rule Text: Paragraph S6.5 of FMVSS No. 119 requires in pertinent part:

S6.5 Tire Markings. Except as specified in this paragraph, each tire shall be marked on each sidewall with the information in paragraph (a) through (j) of this section. The markings shall be placed between the maximum section width (exclusive of sidewall decorations or curb ribs) and the bead on at least one sidewall, unless the maximum section width of the tire is located in an area which is not more than one-fourth of the distance from the bead to the shoulder of the tire. If the maximum section width falls within that area, the markings shall appear between the bead and a point one-half the distance from the bead to the shoulder of the tire, on at least one sidewall. The markings shall be in letters and numerals not less than 2 mm (0.078 inch) high and raised above or sunk below the tire surface not less than 0.4 mm (0.015 inch), except that the marking depth shall be not less than 0.25mm (0.010 inch) in the case of motorcycle tires. The tire identification and the DOT symbol labeling shall comply with part 574 of this chapter. Markings may appear on only one sidewall and the entire sidewall area may be used in the case of motorcycle tires and recreational, boat, baggage, and special trailer tires . . .

(b) The tire identification number required by part 574 of this chapter. This number may be marked on only one sidewall. . . .

V. Summary of TIRECO's Arguments: Tireco state its belief that the subject noncompliance is inconsequential to motor vehicle safety for the following reasons:

(A) Tireco believes that the absence of the tire size code from the TIN has no impact on the operational performance of the subject tires or on the safety of vehicles on which the subject tires are mounted because the subject tires meet or exceed all of the applicable performance requirements specified by FMVSS No. 119.

(B) Tireco states that even though the size code is absent from the TIN, the tire size information is readily available to consumers in a more understandable way by virtue of the actual tire size marking on the sidewalls.

(C) Tireco also states that in the unlikely event that any of the subject tires are ever found to contain a defect or a substantive noncompliance that would warrant a recall, the recalled tires could be adequately identified through the partial [T]IN that is stamped on the sidewall.

(D) Tireco referenced inconsequentiality petitions NHTSA has previously granted in the past that have addressed what it believes are similar issues.

Tireco is not aware of any crashes, injuries, customer complaints, or field reports associated with the subject noncompliance.

Tireco has additionally informed NHTSA that the fabricating manufacturer has corrected the molds at the manufacturing plant so that no additional tires will be manufactured with the noncompliance.

In summation, Tireco believes that the described noncompliance of the subject tires is inconsequential to motor vehicle safety, and that its petition, to exempt Tireco from providing recall notification of noncompliance as required by 49 U.S.C. 30118 and remedying the recall noncompliance as required by 49 U.S.C. 30120 should be granted.

NHTSA'S Decision:

NHTSA's Analysis: Although the tire size codes were not included as part of the TINs on the effected tires, the actual size of each tire is clearly marked on its sidewall and should allow end-users to be able to select a tire size for their vehicles. In addition, in the event that the tires are subject to a recall or need to be identified as part of a defect investigation, the tires could be identified by the correctly stamped partial TIN on the sidewall. Subsequent to receiving the subject petition, NHTSA contacted Tireco and received its verification that a registration card submitted with an incomplete TIN for the subject tires would be accepted and registered correctly.

The subject noncompliance also has no effect on the operational safety of vehicles on which these tires are mounted. NHTSA's Decision: In consideration of the foregoing, NHTSA has decided that Tireco has met its burden of persuasion that the FMVSS No. 119 noncompliance is inconsequential to motor vehicle safety. Accordingly, Tireco's petition is hereby granted and Tireco is not obligated to provide notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Tireco no longer controlled at the time it determined that the noncompliance existed. However, any decision on this petition does not relieve tire distributors and dealers of the prohibitions on the sale, offer for sale, or introduction or delivery for introduction into interstate commerce of the noncompliant tires under their control after Tireco notified them that the subject noncompliance existed.

Authority: 49 U.S.C. 30118, 30120: Delegations of authority at 49 CFR 1.95 and 501.8.

Jeffrey M. Giuseppe,
Director, Office of Vehicle Safety Compliance.

[FR Doc. 2015-27612 Filed 10-28-15; 8:45 am]

BILLING CODE 4910-59-P